DEPARTMENT OF THE INTERIOR

Bureau of Land Management

[LLNMF010000 L13100000.PP0000 212L1109AF]

Notice of Public Meeting, Northern New Mexico Resource Advisory Council, New Mexico

AGENCY: Bureau of Land Management, Interior.

ACTION: Notice of public meeting.

SUMMARY: In accordance with the Federal Land Policy and Management Act of 1976 and the Federal Advisory Committee Act of 1972, the U.S. Department of the Interior, Bureau of Land Management's (BLM) Northern New Mexico Resource Advisory Council (RAC) will meet as indicated below.

DATES: The RAC will meet in-person for a field trip to visit the El Malpais National Conservation Area on August 18, 2021, from 9 a.m.-2:00 p.m. The RAC will meet virtually on August 19, 2021, from 9:00 a.m.-3:30 p.m.

ADDRESSES: Field trip attendees should meet at the Sky City Travel Center Express off of Interstate 40, Exit 89, east of Grants, N.M. at 9 a.m. on August 18, 2021.

The virtual meeting will be held via the Zoom Webinar Platform on August 19, 2021. To register to participate virtually in the RAC meeting, please visit: https://blm.zoomgov.com/webinar/register/WN_BmC1KmxDSvKxfqrV0ZKEZg.

Written comments pertaining to the meeting may be filed in advance at the BLM address listed below or via email to jgaragon@blm.gov. Please include “RAC Comment” in your submission. Written comments will be presented to the RAC.

FOR FURTHER INFORMATION CONTACT: Jillian Aragon, Farmington District Office, Bureau of Land Management, 6251 College Boulevard, Suite A, Farmington, New Mexico 87402; 505-564-7722; jgaragon@blm.gov. Persons who use a telecommunications device for the deaf (TDD) may call the Federal Relay Service (FRS) at 1-800-877-8229 to contact the above individual during normal business hours. The FRS is available 24 hours a day, 7 days a week, to leave a message or question with the above individual. You will receive a reply during normal business hours.

SUPPLEMENTARY INFORMATION: The 12-member Northern New Mexico RAC provides recommendations to the Secretary of the Interior, through the BLM, on a variety of planning and management issues associated with public land management in the RAC's area of jurisdiction.

Planned agenda items include: Fee discussions for Kasha-Katuwe Tent Rocks National Monument and the Joe Skeen Campground; updates from the BLM Farmington, Taos, and Rio Puerco Field Offices; and a public comment session. The final agenda will be posted online 2 weeks prior to the meeting at https://www.blm.gov/get-involved/resource-advisory-council/near-you/new-mexico/northern-rac.

All RAC meetings are open to the public and will be streamed via the Zoom Webinar Platform. All attendees for the field trip will be responsible for their own transportation, as well as their own meals. All attendees should socially distance or wear a mask. The number of agency staff participating will be limited. Members of the public wishing to attend the field trip should notify the BLM to ensure compliance with Federal and State of New Mexico large group guidance.

Public Comment Procedures

The BLM welcomes comments from all interested parties. There will be a half-hour public comment period during the August 19 virtual meeting starting at 2:15 p.m. for any interested members of the public who wish to address the RAC. Depending on the number of persons wishing to speak and time available, the time for individual comments may be limited. Before including your address, phone number, email address, or other personal identifying information in your comment, you should be aware that your entire comment—including your personal identifying information—may be made publicly available at any time. While you can ask us in your comment to withhold your personal identifying information from public review, we cannot guarantee that we will be able to do so.

Authority: 43 CFR 1784.4-1.

Alfred Elser,
BLM Farmington District Manager.

[FR Doc. 2021-13483 Filed 6-24-21; 8:45 am]

BILLING CODE 4310-FB-P